DEPARTMENT OF TRANSPORTATION

Federal Aviation Administration

14 CFR Part 71

[Docket No. FAA-2023-2275; Airspace Docket No. 23-AEA-22]

RIN 2120-AA66

Amendment of Class D and Class E Airspace; Lewisburg, WV

AGENCY: Federal Aviation Administration (FAA), DOT.

ACTION: Final rule; correction.

SUMMARY: A final rule was published in the Federal Register on April 8, 2024, amending Class D surface area and Class E airspace for Greenbrier Valley Airport, Lewisburg, WV, as the BUSHI non-directional beacon (NDB) was removed from the airspace descriptions. This action corrects the Class D airspace description by changing the ceiling of the airspace from 4,000 feet to 4,800 feet.

DATES: Effective 0901 UTC, July 11, 2024. The Director of the Federal Register approves this incorporation by reference action under 1 CFR part 51, subject to the annual revision of FAA Order JO 7400.11 and publication of conforming amendments.

FOR FURTHER INFORMATION CONTACT: John Fornito, Operations Support Group, Eastern Service Center, Federal Aviation Administration, 1701 Columbia Avenue, College Park, GA 30337; Telephone: (404) 305-6364.

SUPPLEMENTARY INFORMATION:

Authority for This Rulemaking

History

The FAA published a final rule in the Federal Register (89 FR 24367, April 8, 2024) for Doc. No. FAA-2023-2275, updating the Class D and Class E airspace for Greenbrier Valley Airport, Lewisburg, WV. In the Class D descriptor, the ceiling was inadvertently changed to 4,000 feet. The ceiling should be 4,800 feet. This action corrects this error.

Correction to Final Rule

This action amends (14 CFR) part 71 by correcting the Class D airspace descriptor for Greenbrier Valley Airport, Lewisburg, WV, by replacing the ceiling from 4,000 feet to 4,800 feet.

Regulatory Notices and Analyses

The FAA has determined that this regulation only involves an established body of technical regulations for which frequent and routine amendments are necessary to keep them operationally current. It therefore: (1) is not a “significant regulatory action” under Executive Order 12866; (2) is not a “significant rule” under DOT Regulatory Policies and Procedures (44 FR 11034; February 26, 1979); and (3) does not warrant preparation of a regulatory evaluation as the anticipated impact is minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant the preparation of an environmental assessment.

Lists of Subjects in 14 CFR Part 71

Airspace, Incorporation by reference, Navigation (air).

Correction to the Final Rule

Accordingly, pursuant to the authority delegated to me, the amendment of Class D airspace for Greenbrier Valley Airport, Lewisburg, WV, in Docket No. FAA-2023-2275, as published in the Federal Register of April 8, 2024 (89 FR 24367), FR Doc. 2024-07245, in 14 CFR part 71, is corrected as follows:

§ 71.1 [Corrected]

1. On page 24368, in the third column, correct the description for AEA WV D Lewisburg, WV [Amended] to read:

* * * * *

AEA WV D Lewisburg, WV [Amended]

Greenbrier Valley Airport, WV

(Lat. 37°51′30″ N, long. 80°23′58″ W)

That airspace extending upward from the surface to and including 4,800 feet MSL within a 4-mile radius of Greenbrier Valley Airport. This Class D airspace area is effective during the specific dates and times established in advance by a Notice to Air Missions. The effective date and time will thereafter be published continuously in the Chart Supplement.

Issued in College Park, Georgia, on May 15, 2024.
Patrick Young,
Manager, Airspace & Procedures Team North, Eastern Service Center, Air Traffic Organization.

[FR Doc. 2024-10967 Filed 5-17-24; 8:45 am]

BILLING CODE 4910-13-P